ENVIRONMENTAL PROTECTION AGENCY

[FRL-8498-5]

Proposed Administrative Cost Recovery Settlement Pursuant to the Comprehensive Environmental Response, Compensation, and Liability Act; Universal Laboratories Superfund Site, Detroit, MI, Wayne County and Mr. Joseph Z. Oram, 29501 Greenfield, Suite 219, Southfield, MI

AGENCY: Environmental Protection Agency (EPA).

ACTION: Notice; request for public comment.

SUMMARY: In accordance with Section 122(i) of the Comprehensive Environmental Response, Compensation, and Liability Act, as amended (“CERCLA”) 42 U.S.C. 9622(i), notice is hereby given of a proposed administrative settlement for recovery of past response costs concerning the Universal Laboratories Superfund Site in Detroit, Michigan with the following Settling Party: Mr. Joseph Z. Oram, 29501 Greenfield, Suite 219, Southfield, Michigan. The settlement requires that the Settling Party shall pay $28,000.00 to the Hazardous Substance Superfund within 30 days of the effective date of the CERCLA Section 122(h) Administrative Order. Settling Party shall also pay interest at the Superfund interest rate (5.02% through September 30, 2007, and 4.34% as of October 1, 2007) for the time period between March 29, 2007 and the date of payment. The settlement includes a covenant not to sue the Settling Party pursuant to Section 107(a) of CERCLA, 42 U.S.C. 9607(a), to recover past response costs. This covenant not to sue is conditioned upon the satisfactory performance by Settling Party of its obligations under the Agreement. U.S. EPA is proposing this Agreement because it provides reimbursement to U.S. EPA for part of its past costs at the Universal Laboratories Superfund Site.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the Superfund Division Record Center, U.S. Environmental Protection Agency, 77 West Jackson Blvd., Chicago, Illinois 60604-3590.

DATES: Comments must be submitted on or before December 21, 2007.

ADDRESSES: The proposed settlement is available for public inspection at the Office of Regional Counsel, U.S. EPA, Region 5, 77 W. Jackson Blvd., 14th Fl., Chicago, Illinois 60604. A copy of the proposed settlement may be obtained from Thomas Turner, Office of Regional Counsel, Mail Code C-14J, U.S. EPA, Region 5, 77 West Jackson Blvd., Chicago, Illinois 60604. Comments should reference the Universal Laboratories Superfund Site, Detroit, Michigan and should be addressed to Debbie Keating, Superfund Division, Mail Code SE-5J, U.S. EPA, Region 5, 77 West Jackson Blvd., Chicago, Illinois 60604.

FOR FURTHER INFORMATION CONTACT: Thomas Turner, Office of Regional Counsel, Mail Code C-14J, U.S. Environmental Protection Agency, Region 5, 77 West Jackson Blvd., Chicago, Illinois 60604 or call (312) 886-6613.

SUPPLEMENTARY INFORMATION: As to the Settling Party: Richard M. Taubman, Esq., Taubman, Nadis & Neuman, P.C., 32255 Northwestern Highway, Suite 200, Farmington Hills, MI 48334-1574.

Dated: October 29, 2007.
Matthew Mankowski,
Acting Director, Superfund Division.

[FR Doc. E7-22757 Filed 11-20-07; 8:45 am]

BILLING CODE 6560-50-P